DEPARTMENT OF ENERGY

Federal Energy Regulatory Commission

Combined Notice of Filings #1

Take notice that the Commission received the following exempt wholesale generator filings:

Docket Numbers: EG15-85-000.

Applicants: Alpaca Energy LLC.

Description: Alpaca Energy LLC EWG Self-Certification.

Filed Date: 5/18/15.

Accession Number: 20150518-5226.

Comments Due: 5 p.m. ET 6/8/15.

Docket Numbers: EG15-86-000.

Applicants: Beaver Dam Energy LLC.

Description: Beaver Dam Energy LLC EWG Self-Certification.

Filed Date: 5/18/15.

Accession Number: 20150518-5227.

Comments Due: 5 p.m. ET 6/8/15.

Docket Numbers: EG15-87-000.

Applicants: Milan Energy LLC.

Description: Milan Energy LLC EWG Self-Certification.

Filed Date: 5/18/15.

Accession Number: 20150518-5228.

Comments Due: 5 p.m. ET 6/8/15.

Docket Numbers: EG15-88-000.

Applicants: Oxbow Creek Energy LLC.

Description: Oxbow Creek Energy LLC EWG Self-Certification.

Filed Date: 5/18/15.

Accession Number: 20150518-5229.

Comments Due: 5 p.m. ET 6/8/15.

Take notice that the Commission received the following electric rate filings:

Docket Numbers: ER10-2397-002; ER10-2402-003; ER10-2403-003; ER14-1933-003; ER11-2935-005; ER10-2425-003; ER14-1934-003; ER14-1935-003.

Applicants: Arlington Wind Power Project LLC, Blue Canyon Windpower V LLC, Cloud County Wind Farm, LLC, Headwaters Wind Farm LLC, Paulding Wind Farm II LLC, Pioneer Prairie Wind Farm I, LLC, Rising Tree Wind Farm LLC, Rising Tree Wind Farm II LLC.

Description: Notice of Non-Material Change in Status of Arlington Wind Power Project LLC, et al.

Filed Date: 5/18/15.

Accession Number: 20150518-5193.

Comments Due: 5 p.m. ET 6/8/15.

Docket Numbers: ER10-2570-017.

Applicants: Shady Hills Power Company, L.L.C.

Description: Supplement to December 16, 2014 Triennial Market Power Analysis of Shady Hills Power Company, L.L.C.

Filed Date: 5/18/15.

Accession Number: 20150518-5158.

Comments Due: 5 p.m. ET 6/8/15.

Docket Numbers: ER10-2881-020; ER10-2882-020; ER10-2883-020; ER10-2884-020; ER10-2885-020; ER10-2641-020; ER10-2663-020; ER10-2886-020; ER13-1101-015; ER13-1541-014; ER14-787-008; ER14-661-007; ER15-54-001; ER15-55-001; ER15-1475-002.

Applicants: Alabama Power Company, Southern Power Company, Mississippi Power Company, Georgia Power Company, Gulf Power Company, Oleander Power Project, Limited Partnership, Southern Company—Florida LLC, Southern Turner Cimarron I, LLC, Spectrum Nevada Solar, LLC, Campo Verde Solar, LLC, Macho Springs Solar, LLC, SG2 Imperial Valley LLC, Lost Hills Solar, LLC, Blackwell Solar, LLC, North Star Solar, LLC.

Description: Notification of Non-Material of Change in Status of Alabama Power Company, et al.

Filed Date: 5/15/15.

Accession Number: 20150515-5228.

Comments Due: 5 p.m. ET 6/5/15.

Docket Numbers: ER10-3125-010, ER11-4050-004; ER10-3102-010; ER11-4027-006; ER11-4028-006; ER15-1447-002; ER10-3100-010; ER12-1275-001; ER10-3107-010; ER10-3109-010.

Applicants: AL Sandersville, LLC, Cogentrix of Alamosa, LLC, Effingham County Power, LLC, James River Genco, LLC, Portsmouth Genco, LLC, Mid-Georgia Cogen L.P., MPC Generating, LLC, Red Oak Power, LLC, Walton County Power, LLC, Washington County Power, LLC.

Description: Notice of Non-Material Change in Status of the Carlyle Group MBR Sellers.

Filed Date: 5/15/15.

Accession Number: 20150515-5252.

Comments Due: 5 p.m. ET 6/5/15.

Docket Numbers: ER13-366-006.

Applicants: Southwest Power Pool, Inc.

Description: Compliance filing per 35: Order 1000 Regional Compliance Filing to be effective 3/30/2014.

Filed Date: 5/18/15.

Accession Number: 20150518-5222.

Comments Due: 5 p.m. ET 6/8/15.

Docket Numbers: ER13-1928-003.

Applicants: Duke Energy Progress, Inc., Duke Energy Carolinas, LLC.

Description: Compliance filing per 35: Order No. 1000 Interregional—SERTP & SPP to be effective 1/1/2015.

Filed Date: 5/18/15.

Accession Number: 20150518-5184.

Comments Due: 5 p.m. ET 6/8/15.

Docket Numbers: ER13-1930-003.

Applicants: Louisville Gas and Electric Company.

Description: Compliance filing per 35: Order No 1000 SERTP-SPP 2nd Interregional Compliance to be effective 1/1/2015.

Filed Date: 5/18/15.

Accession Number: 20150518-5239.

Comments Due: 5 p.m. ET 6/8/15.

Docket Numbers: ER13-1941-003.

Applicants: Alabama Power Company.

Description: Compliance filing per 35: Order No. 1000 Second Interregional Compliance Filing—SERTP-SPP Seam to be effective 1/1/2015.

Filed Date: 5/18/15.

Accession Number: 20150518-5208.

Comments Due: 5 p.m. ET 6/8/15.

Docket Numbers: ER14-108-000.

Applicants: Entergy Arkansas, Inc., Entergy Gulf States Louisiana, L.L.C., Entergy Mississippi, Inc., Entergy New Orleans, Inc., Entergy Texas, Inc., Entergy Louisiana, LLC.

Description: eTariff filing per 35.19a(b): Refund Report to be effective N/A.

Filed Date: 5/18/15.

Accession Number: 20150518-5200.

Comments Due: 5 p.m. ET 6/8/15.

Docket Numbers: ER14-2875-001.

Applicants: UNS Electric, Inc.

Description: Compliance filing per 35: Formula Rate Protocols Compliance Filing to be effective 11/14/2014.

Filed Date: 5/18/15.

Accession Number: 20150518-5182.

Comments Due: 5 p.m. ET 6/8/15.

Docket Numbers: ER14-2884-001.

Applicants: KCP&L Greater Missouri Operations Company.

Description: Compliance filing per 35: Formula Rate Protocols Compliance Filing to be effective 3/1/2015.

Filed Date: 5/18/15.

Accession Number: 20150518-5241.

Comments Due: 5 p.m. ET 6/8/15.

Docket Numbers: ER15-1047-002.

Applicants: R.E. Ginna Nuclear Power Plant, LLC.

Description: Compliance filing per 35: Compliance to 134 to be effective 4/1/2015.

Filed Date: 5/14/15.

Accession Number: 20150514-5196.

Comments Due: 5 p.m. ET 6/4/15.

Docket Numbers: ER15-1067-001.

Applicants: Midcontinent Independent System Operator, Inc.

Description: Compliance filing per 35: 2015-05-18_MMTG RTO Adder Compliance Filing to be effective 6/16/2015.

Filed Date: 5/18/15.

Accession Number: 20150518-5171.

Comments Due: 5 p.m. ET 6/8/15.

Docket Numbers: ER15-1086-001.

Applicants: Midcontinent Independent System Operator, Inc.

Description: Compliance filing per 35: 2015-05-18_SA 765 Compliance ATC-WPL Bill of Sale to be effective N/A.

Filed Date: 5/18/15.

Accession Number: 20150518-5217.

Comments Due: 5 p.m. ET 6/8/15.

Docket Numbers: ER15-1087-001.

Applicants: Midcontinent Independent System Operator, Inc.

Description: Compliance filing per 35: 2015-05-18_SA 2748 Compliance ATC-WPL CFA to be effective N/A.

Filed Date: 5/18/15.

Accession Number: 20150518-5209.

Comments Due: 5 p.m. ET 6/8/15.

Docket Numbers: ER15-1571-001.

Applicants: Midcontinent Independent System Operator, Inc.

Description: Tariff Amendment per 35.17(b): 2015-05-18 Amendment RSG NCA BCA Filing to be effective 6/30/2015.

Filed Date: 5/18/15.

Accession Number: 20150518-5155.

Comments Due: 5 p.m. ET 6/8/15.

Docket Numbers: ER15-1729-000.

Applicants: Southwest Power Pool, Inc.

Description: Section 205(d) rate filing per 35.13(a)(2)(iii): Ministerial Filing of Non-Substantive Tariff Revisions to be effective 1/1/2015.

Filed Date: 5/15/15.

Accession Number: 20150515-5212.

Comments Due: 5 p.m. ET 6/5/15.

Docket Numbers: ER15-1730-000.

Applicants: Duke Energy Carolinas, LLC.

Description: Section 205(d) rate filing per 35.13(a)(2)(iii): EUEMC NITSA Amendment SA No. 366 to be effective 5/1/2015.

Filed Date: 5/15/15.

Accession Number: 20150515-5222.

Comments Due: 5 p.m. ET 6/5/15.

Docket Numbers: ER15-1731-000.

Applicants: Celesta Energy, Inc.

Description: Initial rate filing per 35.12 Celesta Energy, Inc. Market Based Rate Tariff to be effective 6/30/2015.

Filed Date: 5/18/15.

Accession Number: 20150518-5145.

Comments Due: 5 p.m. ET 6/8/15.

Docket Numbers: ER15-1732-000.

Applicants: PJM Interconnection, L.L.C.

Description: Section 205(d) rate filing per 35.13(a)(2)(iii): Original Interconnection Service Agreement No. 4135; Queue X1-078 to be effective 4/21/2015.

Filed Date: 5/18/15.

Accession Number: 20150518-5159.

Comments Due: 5 p.m. ET 6/8/15.

Docket Numbers: ER15-1733-000.

Applicants: Southwest Power Pool, Inc.

Description: Compliance filing per 35: Compliance Filing Revising Empire's Formula Rate Protocols to be effective 4/1/2015.

Filed Date: 5/18/15.

Accession Number: 20150518-5230.

Comments Due: 5 p.m. ET 6/8/15.

Take notice that the Commission received the following electric reliability filings:

Docket Numbers: RD15-4-000.

Applicants: North American Electric Reliability Corp.

Description: Petition of the North American Electric Reliability Corporation for Approval of Proposed Reliability Standard CIP-014-2.

Filed Date: 5/15/15.

Accession Number: 20150515-5215.

Comments Due: 5 p.m. ET 6/15/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2015.
Nathaniel J. Davis, Sr.,
Deputy Secretary.

[FR Doc. 2015-12436 Filed 5-21-15; 8:45 am]

BILLING CODE 6717-01-P